DEPARTMENT OF VETERANS AFFAIRS

Veterans and Community Oversight and Engagement Board, Notice of Meeting

The Department of Veterans Affairs (VA) gives notice under the Federal Advisory Committee Act, 5 U.S.C. ch. 10, that the Veterans and Community Oversight and Engagement Board (VCOEB) will meet on June 21-22, 2023, at The Bob Hope Patriotic Hall, 1816 S Figueroa St., Los Angeles, CA. The meeting sessions will begin and end as follows:

Date | Time
June 21, 2023 | 8:30 a.m. to 5:00 p.m.—Pacific Daylight Time (PDT).
June 22, 2023 | 8:30 a.m. to 2:15 p.m.—(PDT).

The meetings are open to the public and will be recorded.

The Board was established by the West Los Angeles Leasing Act of 2016 on September 29, 2016. The purpose of the Board is to provide advice and make recommendations to the Secretary of Veterans Affairs on identifying the goals of the community and Veteran partnership; improving services and outcomes for Veterans, members of the Armed Forces, and the families of such Veterans and members; and on the implementation of the Draft Master Plan approved by VA Secretary on January 28, 2016, and on the creation and implementation of any successor master plans.

On Wednesday, June 21, 2023, from 8:30 a.m. to 5:00 p.m., the Committee will meet in open session with key staff of the VA Greater Los Angeles Healthcare System, (VAGLAHS). The agenda will include opening remarks from the Committee Chair, Executive Sponsor, and other VA officials. There will be a general update from the Director of the VA Greater Los Angeles Healthcare System (VAGLAHS). The Senior Executive Homeless Agent, (Greater Los Angeles), Office of the Secretary, will provide an overview of Ongoing efforts associated with Area Median Income and the impact of VA disability benefits on eligibility for low-income housing. The Board will receive a comprehensive presentation on Homeless Veterans' Reintegration Program/Employment Programs. The Community Engagement and Reintegration Service Office will provide an overview of the Coordinated Entry System, and a comprehensive trend analysis of the data reflected on the VAGLAHS Dashboard. The Community Engagement and Reintegration Service Office will also provide an overview of the Housing Navigating Contracts, and an update on plans for future use of the CTRS site. The Office of Asset and Enterprises Management will present detailed information on the VAGLAMC campus parcel release plan.

On Thursday, June 22, 2023, the Board will reconvene in open session from 8:30 a.m. to 2:15 p.m., at The Bob Hope Patriotic Hall, 1816 S Figueroa St., Los Angeles, CA. Each Enhanced Use Lease developer is scheduled to provide an updated status of ongoing construction to include projected completion date, proposed move in plan, current selected service provider, and funding commitment levels. VAGLAHS will provide a status of all Fiscal Year 2023 Enhanced Use Lease (EUL) infrastructure projects. The Board has also requested a status on efforts associated with Master Plan 2025 projections. The Board's subcommittees on Outreach and Community Engagement with Services and Outcomes, and Master Plan with Services and Outcomes will provide an out brief to the full Board and update on draft recommendations to be considered for forwarding to the Secretary of Veterans Affairs.

Time will be allocated for receiving public comments on June 21, at 1:00 p.m. Individuals wishing to make public comments should contact Chihung Szeto at (562) 708-9959 or at Chihung.Szeto@va.gov and are requested to submit a 1-2-page summary of their comments for inclusion in the official meeting record. Only those members of the public (first 12 public comment registrants) who have confirmed registrations to provide public comment will be allowed to provide public comment. In the interest of time, each speaker will be held to 5-minute time limit. The Committee will accept written comments from interested parties on issues outlined in the meeting agenda, from June 15 through June 27, 2023. If public members are interested in attending the meeting virtually, please access the WEBEX meeting link below. The link will be active from 8:00 a.m.-5:45 p.m. (PDT), 21 June 2023 and 8:00 a.m.-2:30 p.m. (PDT), 22 June 2023.

Join From Meeting Link

https://veteransaffairs.webex.com/veteransaffairs/j.php?MTID=mb1f81aac66de4936bd3f0b082e538f69

Join by Meeting Number

Meeting number (access code): 2762 529 1546

Meeting password: 5CutKtWS@32

Tap to join from a mobile device (attendees only): +14043971596,,27625291546## USA Toll Number

Join by Phone

14043971596 USA Toll Number

Global call-in numbers | Toll-free calling restrictions

Dial 27625291546@veteransaffairs.webex.com

You can also dial 207.182.190.20 and enter your meeting number.

Need help? Go to https://help.webex.com.

Any member of the public seeking additional information should contact Mr. Eugene W. Skinner Jr. at (202) 631-7645 or at Eugene.Skinner@va.gov.

Dated: May 19, 2023.
Jelessa M. Burney,
Federal Advisory Committee Management Officer.

[FR Doc. 2023-11110 Filed 5-24-23; 8:45 am]

BILLING CODE P